DEPARTMENT OF TRANSPORTATION

Federal Aviation Administration

Twenty Fourth Meeting of SC-217 Aeronautical Databases

AGENCY: Federal Aviation Administration (FAA), U.S. Department of Transportation (DOT).

ACTION: Twenty Seventh Meeting of the SC-217 Aeronautical Databases.

SUMMARY: The FAA is issuing this notice to advise the public of a meeting of Twenty Seventh Meeting of SC-217 Aeronautical Databases.

DATES: The meeting will be held November 29 to December 2, 2016, 9:00 a.m. to 5:00 p.m.

ADDRESSES: The meeting will be held at: 202 Burlington Road, Bedford, MA 01730-1420.

FOR FURTHER INFORMATION CONTACT: Karan Hoffmann at khoffman@rtca.org or (202) 330-0680, or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Twenty Seventh Meeting of SC-217 Aeronautical Databases. The agenda will include the following:

Monday, November 28th

Working Session

For those able to attend, a working group session will be held to progress on action items ahead of the plenary.

Tuesday, November 29th (9:00 a.m.-11:00 a.m.)

Opening Plenary Session

1. Co-Chairmen's remarks and introductions

2. Housekeeping

3. Approve minutes from 26th meeting

4. Review and approve meeting agenda for 27th meeting

5. Action item list review

6. Presentations (TBD)

a. Status of EASA PBN IR

Tuesday, November 29th (11:00 a.m.) through Thursday, December 1st (5:00 p.m.)

Working Group Sessions

1. Sub-team report-outs

• Document structure

• Background/PBN principles

• Data preparation rules

• Data quality

• Procedure encoding

• Aeronautical information basics

2. Draft of requirements tables based on data catalog

3. Review of action item inputs

a. Working Papers

b. Discussion Papers

c. Information Papers

4. New business

Friday December 2nd (9:00 a.m.-12:00 p.m.)

Closing Plenary Session

Meeting wrap-up: main conclusions and way forward

Review of action items

Next meetings

Any other business

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 13, 2016.
Mohannad Dawoud,
Management & Program Analyst, Partnership Contracts Branch, ANG-A17 NextGen, Procurement Services Division, Federal Aviation Administration.

[FR Doc. 2016-22396 Filed 9-16-16; 8:45 am]

BILLING CODE 4910-13-P